DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before September 12, 2011. Address written comments to Statutory Import Programs Staff, Room 3720, U.S. Department of Commerce, Washington, DC 20230. Applications may be examined between 8:30 a.m. and 5 p.m. at the U.S. Department of Commerce in Room 3720.

Docket Number: 11-026. Applicant: Purdue University, 745 Agriculture Mall Dr., West Lafayette, IN 47907. Instrument: SPSx Moisture Sorption Analyzer. Manufacturer: Projekt Messtechnik, Germany. Intended Use: The SPSx will be used to monitor the water-solid interaction behavior of food ingredients (both amorphous and crystalline) and blends of powdered food ingredients. The instrument monitors water-solid interactions by taking gravimetric measurement of samples continuously using a microbalance to monitor sample weight after exposure to the programmed relative humidity and temperature conditions. The SPSx is the leading instrument in monitoring multiple samples exposed to the same experimental conditions by use of a sampling wheel and enclosed top weighing balance, allowing for the measurement of up to 23 samples in a single experimental protocol. A unique feature of this instrument is that it monitors multiple samples at one time, ensuring that conditions do not vary from one experiment to the next. Justification for Duty-Free Entry: There are no instruments of the same general category being manufactured in the United States. Application accepted by Commissioner of Customs: March 23, 2011.

Dated: August 16, 2011.
Gregory Campbell,
Director, IA Subsidies Enforcement Office.

[FR Doc. 2011-21391 Filed 8-19-11; 8:45 am]

BILLING CODE 3510-DS-P